DEPARTMENT OF ENERGY

Federal Energy Regulatory Commission

Combined Notice of Filings # 1

May 9, 2007.

Take notice that the Commission received the following exempt wholesale generator filings:

Docket Numbers: EG07-52-000.

Applicants: Goat Mountain Wind, LP.

Description: Notice of Self-Certification of Exempt Wholesale Generator Status of Goat Mountain Wind, LP.

Filed Date: 05/07/2007.

Accession Number: 20070507-5067.

Comment Date: 5 p.m. Eastern Time on Tuesday, May 29, 2007.

Take notice that the Commission received the following electric rate filings.

Docket Numbers: ER91-505-008; EL92-18-005.

Applicants: Pacific Gas and Electric Company.

Description: Pacific Gas and Electric Company's Changes to Rate Schedule 143 in Compliance with April 6, 2007 Order.

Filed Date: 05/07/2007.

Accession Number: 20070507-5024.

Comment Date: 5 p.m. Eastern Time on Tuesday, May 29, 2007.

Docket Numbers: FR04-157-020.

Applicants: Central Maine Power Company; Bangor Hydro-Electric Company.

Description: Central Maine Power Company Regional Refund Report pursuant to Commission's 10/31/06 Order.

Filed Date: 05/08/2007.

Accession Number: 20070507-5107.

Comment Date: 5 p.m. Eastern Time on Tuesday, May 29, 2007.

Docket Numbers: ER06-1455-001.

Applicants: Westar Energy, Inc.

Description: Westar Energy, Inc submits a revised Participation Power Agreement with Mid-Kansas Electric Company, LLC in compliance with FERC's letter order issued on 12/7/06.

Filed Date: 05/03/2007.

Accession Number: 20070507-0231.

Comment Date: 5 p.m. Eastern Time on Thursday, May 24, 2007.

Docket Numbers: ER07-404-002.

Applicants: Florida Power & Light Company.

Description: Florida Power & Light Company submits a redline and clean version of Substitute Original Service Agreement 253 with an effective dated of 3/2/07.

Filed Date: 05/04/2007.

Accession Number: 20070507-0232.

Comment Date: 5 p.m. Eastern Time on Friday, May 25, 2007.

Docket Numbers: ER07-835-000.

Applicants: Florida Power Corporation.

Description: Florida Power Corporation dba Progress Energy Florida, Inc submits its annual cost factor updates that implement the contractually authorized changes in certain cost components for interchange services.

Filed Date: 05/02/2007.

Accession Number: 20070504-0225.

Comment Date: 5 p.m. Eastern Time on Wednesday, May 23, 2007.

Docket Numbers: ER07-838-000; ER07-839-000; ER07-840-000; ER07-841-000; ER07-842-000; ER07-843-000; ER07-844-000; ER07-845-000; ER07-846-000; ER07-847-000; ER07-848-000; ER07-849-000; ER07-850-000; ER07-851-000; ER07-852-000; ER07-853-000; ER07-854-000; ER07-855-000; ER07-856-000; ER07-857-000; ER07-858-000.

Applicants: Bridgeport Energy, LLC; Casco Bay Energy Company, LLC; Griffith Energy LLC; Dynegy Arlington Valley, LLC; Dynegy Kendall Energy, LLC; Dynegy Mohave, LLC; Dynegy Morro Bay, LLC; Dynegy Moss Landing, LLC; Dynegy Oakland, LLC; Dynegy South Bay, LLC; Ontelaunee Power Operating Company, LLC; Dynegy Danskammer, L.L.C.; Dynegy Midwest Generation, Inc.; Dynegy Power Marketing, Inc.; Dynegy Roseton, L.L.C.; Renaissance Power, L.L.C.; Riverside Generating Company, L.L.C.; Rocky Road Power, LLC; Rolling Hills Generating, L.L.C.; Sithe/Independence Power Partners, L.P.; Sithe Energy Marketing, L.P.

Description: Bridgeport Energy, LLC et al submits notices of succession and revised market-based rate tariffs (Attachments B-1 through B-13) etc for the Dynegy Entities.

Filed Date: 05/02/2007.

Accession Number: 20070507-0201.

Comment Date: 5 p.m. Eastern Time on Wednesday, May 23, 2007.

Docket Numbers: ER07-859-000.

Applicants: Orion Power MidWest, LP.

Description: Orion Power Midwest LP submits its Notice of Cancellation of the Cost of Service Recovery Tariff.

Filed Date: 05/04/2007.

Accession Number: 20070507-0233.

Comment Date: 5 p.m. Eastern Time on Friday, May 25, 2007.

Docket Numbers: ER07-860-000.

Applicants: Aquila Merchant Services, Inc.

Description: Aquila Merchant Services Inc submits a Notice of Cancellation of its Second Revised Sheet 1 et al to FERC Electric Tariff, First Revised Volume 1.

Filed Date: 05/04/2007.

Accession Number: 20070507-0234.

Comment Date: 5 p.m. Eastern Time on Friday, May 25, 2007.

Docket Numbers: ER07-861-000.

Applicants: California Power Exchange Corporation.

Description: California Power Exchange Corporation submits a petition requesting FERC to extend the term of the Settlement through 12/31/10.

Filed Date: 05/04/2007.

Accession Number: 20070507-0235.

Comment Date: 5 p.m. Eastern Time on Friday, May 25, 2007.

Take notice that the Commission received the following foreign utility company status filings:

Docket Numbers: FC07-50-000.

Applicants: TransCanada Energy Ltd.

Description: TransCanada Energy, Ltd submits notice of self-certification of Foreign Utility Company Status.

Filed Date: 05/02/2007.

Accession Number: 20070508-0004.

Comment Date: 5 p.m. Eastern Time on Wednesday, May 23, 2007.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-9333 Filed 5-15-07; 8:45 am]

BILLING CODE 6717-01-P